ENVIRONMENTAL PROTECTION AGENCY

[OPP-00726; FRL-6790-5]

EPA-USDA Committee to Advise on Reassessment and Transition (CARAT); Workgroup on Cumulative Risk Assessment Public Participation Process: Notice of Public Meeting

AGENCY: Environmental Protection Agency (EPA).

ACTION: Notice.

SUMMARY: The Environmental Protection Agency-United States Department of Agriculture (USDA) Committee to Advise on Reassessment and Transition (CARAT) will hold a public meeting of the Workgroup on Cumulative Risk Assessment Public Participation Process on June 28, 2001. This Workgroup will focus on the public participation process for the regulatory consideration of the cumulative risks of organophosphates.

DATES: The meeting will be held on Thursday, June 28, 2001 from 9 a.m. to 5 p.m.

ADDRESSES: The meeting will be held at the Radisson Hotel Old Town, 901 North Fairfax Street, Alexandria, VA 22314; telephone number (703) 683-6000.

FOR FURTHER INFORMATION CONTACT: Margie Fehrenbach, Office of Pesticide Programs (7501C), Environmental Protection Agency, 1200 Pennsylvania Ave., NW., Washington, DC 20460; telephone number: (703) 308-4775; e-mail address: fehrenbach.margie@epa.gov.

SUPPLEMENTARY INFORMATION:

I. Does this Notice Apply to Me?

This action is directed to the public in general. This action may, however, be of interest to persons who are concerned about implementation of the Food Quality Protection Act (FQPA). Passed in 1996, this new law strengthens the nation's system for regulating pesticides on food.Participants may include environmental/public interest and consumer groups; industry and trade associations; pesticide user and grower groups; Federal, State and local governments; food processors; academia; general public; etc. Since other entities may also be interested, the Agency has not attempted to describe all the specific entities that may be affected by this action. If you have any questions regarding the applicability of this action to a particular entity, consult the person listed under FOR FURTHER INFORMATION CONTACT.

II. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an administrative record for this meeting under docket control number OPP-00726. The administrative record consists of the documents specifically referenced in this notice and other information related to the “Committee to Advise on Reassessment and Transition.” This administrative record includes the documents that are physically located in the docket, as well as the documents that are referenced in those documents.The public version of the administrative record is available for inspection in the Public Information and Records Integrity Branch (PIRIB), Information Resources and services Division, Office of Pesticide Programs (OPP), Environmental Protection Agency, Rm. 119, CM2, 1921 Jefferson Davis HWY., Arlington, VA. The PIRIB is open from 8:30 a.m. to 4:00 p.m., Monday through Friday, excluding legal holidays. The telephone number for the PIRIB is (703) 305-5805.

3. By mail. You may submit a written request to: Public Information and Records Integrity Branch (PIRIB), Information Resources and Services Division (7502C), Office of Pesticide Programs (OPP), Environmental Protection Agency, 1200 Pennsylvania Ave., NW, Washington, DC 20460.

III. How Can I Request To Participate in this Meeting?

CARAT meetings and workgroup meetings are open to the public under section 10(a)(2) of the Federal Advisory Committee Act (Pub. L. 92-463). Outside statements by observers are welcome. Oral statements will be limited to 3 to 5 minutes, and it is preferred that only l person per organization present the statement. Any person who wishes to file a written statement may do so before or after the workgroup meeting. These statements will become part of the permanent record and will be available for public inspection at the address listed in Unit II.B. of this document.

List of Subjects

Environmental protection, Agriculture, Chemicals, pesticides, Cumulative risk.

Dated: June 15, 2001.
Joseph J. Merenda,
Acting Director, Office of Pesticide Programs

[FR Doc. 01-16122 Filed 6-26-01; 8:45 am]

BILLING CODE 6560-50-S